DEPARTMENT OF AGRICULTURE

Grain Inspection, Packers and Stockyards Administration

[06-TX-S]

Designation for the State of Texas Area

AGENCY: Grain Inspection, Packers and Stockyards Administration, USDA.

ACTION: Notice.

SUMMARY: The Grain Inspection, Packers and Stockyards Administration (GIPSA) announces that Intercontinental Grain Inspections, Inc.'s (Intercontinental), designation is amended to provide official inspection services under the United States Grain Standards Act in Montague, Cooke, Grayson, Fannin, Lamar, Red River, Young, Stephen, and Eastland Counties in Texas.

DATES: Effective Date: August 21, 2006.

ADDRESSES: USDA, GIPSA, Karen Guagliardo, Review Branch Chief, Compliance Division, STOP 3604, Room 1647-S, 1400 Independence Avenue, SW., Washington, DC 20250-3604.

FOR FURTHER INFORMATION CONTACT: Karen Guagliardo at 202-720-7312, e-mail Karen.W.Guagliardo@usda.gov.

SUPPLEMENTARY INFORMATION: This action has been reviewed and determined not to be a rule or regulation as defined in Executive Order 12866 and Departmental Regulation 1512-1; therefore, the Executive Order and Departmental Regulation do not apply to this action.

In the March 13, 2006, Federal Register (71 FR 12675), GIPSA asked persons interested in providing official services in Clay, Montague, Cooke, Grayson, Fannin, Lamar, Red River, Young, Stephen, and Eastland Counties in Texas to submit an application for designation by April 12, 2006.

There were two applicants for the Texas area: Enid Grain Inspection Company, Inc. (Enid) and Intercontinental Grain Inspections Inc. (Intercontinental); both currently designated official agencies. Enid applied for designation to provide official services in Clay, Montague, Cooke, and Grayson Counties. Intercontinental applied for all of the counties announced in the March 13, 2006, Federal Register. GIPSA asked for comments on Enid and Intercontinental in the May 12, 2006, Federal Register (71 FR 27672). The geographic area specified in the March 13, 2006 Federal Register notice erroneously included Clay County. This county is currently assigned to another official agency and therefore is not open for designation in this action.

Comments were due by June 12, 2006. GIPSA received one comment from an elevator manager in Lamar County, supporting Intercontinental for designation.

GIPSA evaluated all available information regarding the designation criteria in Section 7(f)(l)(A) of the Act and, according to Section 7(f)(l)(B), determined that Intercontinental is better able to provide official services in the geographic area specified in the March 13, 2006, Federal Register, for which it applied. Intercontinental was previously designated for 18 months only, effective April 10, 2006, and terminating September 30, 2007. Intercontinental's designation will be amended to include the additional Texas counties. Interested persons may obtain official services by calling Intercontinental headquarters in Saginaw, Texas at 817-306-8900.

Authority: 7 U.S.C. 71-87k.

David R. Shipman,
Acting Administrator, Grain Inspection, Packers and Stockyards Administration.

[FR Doc. E6-11485 Filed 7-19-06; 8:45 am]

BILLING CODE 3410-EN-P